DEPARTMENT OF THE INTERIOR

National Park Service

[NPS-WASO-NAGPRA-NPS0029472; PPWOCRADN0-PCU00RP14.R50000]

Notice of Inventory Completion for Native American Human Remains and Associated Funerary Objects From the Little Bighorn Battlefield National Monument, MT in the Possession of the Little Bighorn Battlefield National Monument, National Park Service, Crow Agency, MT; Correction

AGENCY: National Park Service, Interior.

ACTION: Notice; correction.

SUMMARY: The U.S. Department of the Interior, National Park Service, Little Bighorn Battlefield National Monument has corrected an inventory of human remains and associated funerary objects, published in a Notice of Inventory Completion in the Federal Register on March 16, 1999. This notice corrects the cultural affiliation. Lineal descendants or representatives of any Indian Tribe or Native Hawaiian organization not identified in this notice that wish to request transfer of control of these human remains and associated funerary objects should submit a written request to Little Bighorn Battlefield National Monument. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Little Bighorn Battlefield National Monument at the address in this notice by February 27, 2020.

ADDRESSES: Wayne Challoner, Superintendent, Little Bighorn Battlefield National Monument, P.O. Box 39, Crow Agency, MT 59022, telephone (406) 638-3201, email Wayne_Challoner@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Little Bighorn Battlefield National Monument, Crow Agency, MT. The human remains and associated funerary objects were removed from Little Bighorn Battlefield National Monument, Big Horn County, MT.

This notice is published as part of the National Park Service's administrative responsibilities under NAGPRA, 25 U.S.C. 3003(d)(3). The determinations in this notice are the sole responsibility of the Superintendent, Little Bighorn Battlefield National Monument.

This notice corrects the cultural affiliation published in a Notice of Inventory Completion in the Federal Register (64 FR 13034-13035, March 16, 1999). Information provided by the Cheyenne and Arapaho Tribes, Oklahoma indicated that the human remains may not represent a Cheyenne individual as originally determined. A cultural affiliation study was completed which has reasonably traced a shared group identity between the Native American human remains and associated funerary objects and the Crow Tribe of Montana. Transfer of control of the items in this correction notice has not occurred.

Correction

In the Federal Register (64 FR 13034, March 16, 1999), column three, paragraph one, sentence three, is corrected by substituting the following sentence:

Lastly, officials of the National Park Service have determined that, pursuant to 43 CFR 10.2 (e), there is a relationship of shared group identity which can be traced between the Native American human remains and associated funerary objects and the Crow Tribe of Montana.

Additional Requestors and Disposition

Lineal descendants or representatives of any Indian Tribe or Native Hawaiian organization not identified in this notice that wish to request transfer of control of these human remains and associated funerary objects should submit a written request with information in support of the request to Wayne Challoner, Superintendent, Little Bighorn Battlefield National Monument, P.O. Box 39, Crow Agency, MT 59022, telephone (406) 638-3201, email Wayne_Challoner@nps.gov, by February 27, 2020. After that date, if no additional requestors have come forward, transfer of control of the human remains and associated funerary objects to the Crow Tribe of Montana may proceed.

The Little Bighorn Battlefield National Monument is responsible for notifying the Arapaho Tribe of the Wind River Reservation, Wyoming; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe (previously listed as the Oglala Sioux Tribe of the Pine Ridge Reservation), South Dakota; Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North Dakota; Three Affiliated Tribes of the Fort Berthold Reservation, North Dakota; Yankton Sioux Tribe of South Dakota; and the Upper Sioux Community, Minnesota that this notice has been published.

Dated: December 6, 2019.
Melanie O'Brien,
Manager, National NAGPRA Program.

[FR Doc. 2020-01356 Filed 1-27-20; 8:45 am]

BILLING CODE 4312-52-P